DEPARTMENT OF ENERGY

Federal Energy Regulatory Commission

[Project No. 8012-007]

Winchendon Hydroelectric LLC; Notice of Application Accepted for Filing, Soliciting Comments, Motions To Intervene, and Protests

Take notice that the following hydroelectric application has been filed with the Commission and is available for public inspection:

a. Types of Application: Non-capacity amendment of exemption.

b. Project No.: 8012-007.

c. Date Filed: April 5, 2013.

d. Applicant: Winchendon Hydroelectric LLC.

e. Name of Project: Hunts Pond Dam Hydroelectric Project.

f. Location: Millers River in Worcester County, Massachusetts.

g. Filed Pursuant to: Federal Power Act, 16 U.S.C. 791a-825r.

h. Applicant Contact: Mr. Stephen J. Fisk, Winchendon Hydroelectric, LLC, 57 Suffolk Street, Suite 200, Holyoke, MA 01040, (413) 536-6062.

i. FERC Contact: Alyssa Dorval, (212) 273-5955, Alyssa.Dorval@ferc.gov.

j. Deadline for filing comments, motions to intervene, and protests: June 11, 2013.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments. Please include the project number (P-8012-007) on any comments or motions filed.

k. Description of Application: Winchendon Hydroelectric LLC is requesting a non-capacity exemption amendment to replace two cross-flow turbines with a total generator nameplate capacity of 120 kW to a single double regulated Kaplan unit with a generator capacity of 100 kW. The historical data shows the annual production to be approximately 305,000 kWh. The new Kaplan turbine is estimated to produce an additional 201,000 kWh per year more than the existing installed units resulting in an estimated new annual production value of 506,000 kWh. With the turbine replacement, the hydraulic capacity value will be reduced from the existing units at approximately 172 cubic feet per second (cfs) to the new unit at approximately 110 cfs. The exemptee also plans to address repairs to spalled concrete, stoplog and needle beam maintenance and replacement at the dam as required by the Commission's Division of Dam Safety. To complete the turbine replacement and required maintenance, the exemptee will need to temporarily draw down the project from a normal operating elevation of 954.6 feet National Geodetic Vertical Datum (NGVD) to below the crest of the dam, with a lower limit of 944.48 feet NGVD, for a period lasting from June 2013 through September 2013.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field (P-8012) to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: May 13, 2013.
Kimberly D. Bose,
Secretary.

[FR Doc. 2013-11881 Filed 5-17-13; 8:45 am]

BILLING CODE 6717-01-P